DEPARTMENT OF COMMERCE

National Oceanic and Atmospheric Administration

RIN: 0648-XM29

Gulf of Mexico Fishery Management Council; Public Meeting

AGENCY: National Marine Fisheries Service (NMFS), National Oceanic and Atmospheric Administration (NOAA), Commerce.

ACTION: Notice of public meeting.

SUMMARY: The Gulf of Mexico Fishery Management Council will convene a public meeting of the Shrimp Advisory Panel (AP).

DATES: The Shrimp AP meeting is scheduled to begin at 8:30 a.m. on Thursday, January 8, 2009 and end by 2 p.m.

ADDRESSES: The meeting will be held at the Spring Hill Suites, 7922 Mosley Road, Houston, TX 77061.

Council address: Gulf of Mexico Fishery Management Council, 2203 North Lois Avenue, Suite 1100, Tampa, FL 33607.

FOR FURTHER INFORMATION CONTACT: Dr. Richard Leard, Interim Executive Director; telephone: (813) 348-1630.

SUPPLEMENTARY INFORMATION: The Shrimp AP will receive a presentation of the “Biological Review of the 2008 Texas Closure and Percent Change in Yield” and consider recommendations for a cooperative closure with Texas in 2009. The Shrimp AP will also receive presentations of the “Status and Health of the Shrimp Stocks for 2007”, the “Stock Assessment Report 2007”, “A Biological Review of the Tortugas Pink Shrimp Fishery Through December 2007”, and a Report on the Number of Moratorium Permits Issued and Preliminary Effort Estimates for 2008. The Shrimp AP may make recommendations regarding these reports.

Although other non-emergency issues not on the agenda may come before the Shrimp AP for discussion, in accordance with the Magnuson-Stevens Fishery Conservation and Management Act (Magnuson-Stevens Act), those issues may not be the subject of formal action during these meetings. Actions of the Shrimp AP will be restricted to those issues specifically identified in the agenda and any issues arising after publication of this notice that require emergency action under Section 305(c) of the Magnuson-Stevens Act, provided the public has been notified of the Council's intent to take action to address the emergency.

Copies of the agenda can be obtained by calling (813) 348-1630.

Special Accommodations

This meeting is physically accessible to people with disabilities. Requests for sign language interpretation or other auxiliary aids should be directed to Tina O'Hern at the Council (see ADDRESSES) at least 5 working days prior to the meeting.

Dated: December 15, 2008.
Tracey L. Thompson,
Acting Director, Office of Sustainable Fisheries, National Marine Fisheries Service.

[FR Doc. E8-30092 Filed 12-17-08; 8:45 am]

BILLING CODE 3510-22-S